DEPARTMENT OF THE INTERIOR

National Park Service

[NPS-WASO-IEV-NPS0037907; 22XP103905 PPWOHAFCD0 PMO00HF05.D00000; OMB Control Number 1024-NEW (UniD)]

Agency Information Collection Activities; The UniDescription Project: Audio Description Research

AGENCY: National Park Service, Interior.

ACTION: Notice of information collection; request for comment.

SUMMARY: In accordance with the Paperwork Reduction Act of 1995, we, the National Park Service (NPS) are proposing a new information collection.

DATES: Interested persons are invited to submit comments on or before September 23, 2024.

ADDRESSES: Written comments and recommendations for the proposed information collection request (ICR) should be sent within 30 days of publication of this notice to www.reginfo.gov/public/do/PRAMain. Find this particular ICR by selecting “Currently under Review—Open for Public Comments” or by using the search function. Please provide a copy of your comments to Phadrea Ponds, NPS Information Collection Clearance Officer (ADIR-ICCO), 13461 Sunrise Valley Drive (MS-244) Herndon, VA 20171; or at phadrea_ponds@nps.gov (email). Please reference OMB Control Number 1024-NEW (UniD) in the subject line of your comments.

FOR FURTHER INFORMATION CONTACT: To request additional information about this ICR, contact Michele Hartley, Media Accessibility Coordinator at michele_hartley@nps.gov (email) or at 304-535-6083 (telephone), or contact Brett Oppegaard at brett.oppegaard@hawaii.edu (email). Please reference OMB Control Number 1024-NEW (UniD) in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995 (PRA, 44 U.S.C. 3501 et seq.) and 5 CFR 1320.8(d)(1) we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on February 21, 2023 (88 FR 10537). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Sections 504 and 508 of the Rehabilitation Act of 1973, require equivalent access for persons with disabilities to public facilities, learning materials, and other types of information resources. Traditionally, National Park Service brochures combine text, illustrations, photographs, and maps to provide an overview of the park's history and significance. Nearly 80% of park visitors report looking at the park's printed brochure as the most common activity at any NPS site. Alternative formats that make equivalent experiences and information in print materials accessible to people who are blind, have low vision or have a print disability are limited or non-existent. The NPS is working with the UniDescription research project at the University of Hawaii to conduct focus groups and user evaluations of digital content, web tools, and mobile apps designed to address and develop alternate formats that will make equivalent experiences and information in print materials accessible.

Title of Collection: The UniDescription Project: Audio Description Research.

OMB Control Number: 1024-NEW (UniD).

Form Number: None.

Type of Review: New.

Respondents/Affected Public: General Public.

Total Estimated Number of Annual Responses: 132.

Estimated Completion Time per Response: Varies depending on the type of respondent (Initial contact 15 minutes, Onsite Activity 60 minutes, Focus Group Sessions 60 minutes, Online survey 60 minutes).

Total Estimated Number of Annual Burden Hours: 108.

Respondent's Obligation: Voluntary.

Frequency of Collection: One-time, on occasions.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collections Clearance Officer, National Park Service.

[FR Doc. 2024-18863 Filed 8-21-24; 8:45 am]

BILLING CODE 4312-52-P